DEPARTMENT OF TRANSPORTATION

National Highway Traffic Safety Administration

[U.S. DOT Docket Number NHTSA-2005-21025]

Reports, Forms, and Recordkeeping Requirements

AGENCY: National Highway Traffic Safety Administration (NHTSA), U.S. Department of Transportation.

ACTION: Request for public comment on proposed collection of information.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period was published on April 27, 2005 [Vol. 70 FR 21838]. This document describes collection of information for which NHTSA intends to seek OMB approval.

DATES: Comments must be received on or before November 18, 2005.

ADDRESSES: Comments must refer to the docket notice numbers cited at the beginning of this notice and be submitted to Docket Management, National Highway Traffic Safety Administration, Room PL-401, 400 Seventh Street, SW., Washington, DC 20590. It is requested, but not required, that 2 copies of the comment be provided. The Docket Section is open on weekdays from 10 a.m. to 5 p.m.

FOR FURTHER INFORMATION CONTACT: Mr. Steve Beretzky, Office of Defects Investigation, National Highway Traffic Safety Administration (NVS-217), 400 Seventh Street, SW. (Room 5326), Washington, DC 20590. Mr. Beretzky's telephone number is (202) 366-6761. Copies of the ICR may be obtained at no charge.

SUPPLEMENTARY INFORMATION: Before a Federal agency can collect certain information from the public, it must receive approval from the Office of Management and Budget (OMB). Under procedures established by the Paperwork Reduction Act of 1995, before seeking OMB approval, Federal agencies must solicit public comment on proposed collections of information, including extensions and reinstatement of previously approved collections.

Agency: National Highway Traffic Safety Administration.

Title: Reporting of Information and Documents About Potential Defects.

OMB Number: 2127-0616.

Type of Request: Extension of currently approved collection.

Abstract: Under Chapter 301 of Title 49 of the United States Code, manufacturers of motor vehicles and items of motor vehicle equipment are periodically required to submit certain information to NHTSA, including information about claims and notices about deaths and serious injury, property damage data, communications to customers and others, and information on incidents resulting in fatalities or serious injuries from possible defects in vehicles or equipment in the United States or in identical or substantially similar vehicles or equipment in foreign countries. The statute also authorized NHTSA to require the submission of other data that may assist in the identification of safety-related defects in vehicles and equipment.

Information and documents submitted are intended to provide NHTSA with “early warning” of potential safety-related defects in motor vehicles and motor vehicle equipment. NHTSA will rely on the information provided (as well as other relevant information) in deciding whether to open safety defect investigations. Please note that the currently approved ICR, “Reporting of Information About Foreign Safety Recalls and Campaigns Related to Potential Defects” (OMB Control Number 2127-0620) is incorporated with this request for collections.

Affected Public: Manufacturers of motor vehicles and motor vehicle equipment sold in the U.S.

Estimated Total Annual Burden: The annual burden is estimated to be 84,218 hours. The estimated annual cost is $8,105,551.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: October 13, 2005.
Kathleen C. Demeter,
Director for Office of Defects Investigation.

[FR Doc. 05-20885 Filed 10-18-05; 8:45 am]

BILLING CODE 4910-59-P